COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List commodities previously furnished by such agencies.

EFFECTIVE DATE: September 25, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot, (703) 603-7740.

SUPPLEMENTARY INFORMATION: On March 31, June 9 and July 7, 2000, the Committee for Purchase From People Who Are Blind or Severely Disabled published notices (65 FR 17255, 36663, 41941 and 41942) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Strap, Mail Tray

5340-01-365-1043

Field Pack, Firefighters

8465-01-169-3996

Services

Janitorial/Custodial

U.S. Army Reserve Center

180 High Street, Fairfield, Connecticut

AMSA 69, 26 Seamans Lane, Milford, Connecticut

U.S. Department of Agriculture, Avian Disease and Oncology Lab, East Lansing, Michigan

Switchboard Operation

VA Hudson Valley Health Care System

Castle Point Campus, Castle Point, New York

FDR Campus, Albany Post Road, Montrose, New York

This action does not affect current contracts awarded prior to the effective date of this addition or options that may be exercised under those contracts.

Deletions

I certify that the following action will not have a significant impact on a substantial number of small entities. The major factors considered for this certification were:

1. The action may not result in any additional reporting, recordkeeping or other compliance requirements for small entities.

2. The action will not have a severe economic impact on future contractors for the commodities.

3. The action may result in authorizing small entities to furnish the commodities to the Government.

4. There are no known regulatory alternatives which would accomplish the objectives of the Javits-Wagner-O'Day Act (41 U.S.C. 46-48c) in connection with the commodities deleted from the Procurement List.

After consideration of the relevant matter presented, the Committee has determined that the commodities listed below are no longer suitable for procurement by the Federal Government under 41 U.S.C. 46-48c and 41 CFR 51-2.4.

Accordingly, the following commodities are hereby deleted from the Procurement List:

Tree Marking Paint and Tracer Element

8010-01-273-3769

8010-01-273-3768

8010-01-273-3767

8010-01-273-3766

8010-01-274-2569

8010-01-274-2568

8010-01-274-2564

8010-01-273-3765

8010-01-273-3764

8010-01-273-3763

8010-01-273-8705

8010-01-274-2567

8010-01-274-7795

8010-01-274-2563

8010-01-274-2574

8010-01-274-2573

8010-01-274-2572

8010-01-274-2571

8010-01-274-2566

8010-01-274-2565

8010-01-274-2562

8010-01-380-1779

8010-01-380-1770

8010-01-380-1706

8010-01-380-1710

8010-01-380-1777

8010-01-380-1781

8010-01-380-1708

8010-01-380-1732

8010-01-380-1700

8010-01-380-1727

8010-01-380-1756

8010-01-380-1702

8010-01-380-1745

8010-01-380-1735

8010-01-380-1766

8010-01-380-1755

8010-01-380-1769

8010-01-380-1763

8010-01-380-1739

8010-01-380-1757

8010-01-380-1753

Paper, Kraft Wrapping

8135-00-160-7752

8135-00-160-7770

Rita L. Wells,
Deputy Executive Director.

[FR Doc. 00-21811 Filed 8-24-00; 8:45 am]

BILLING CODE 6353-01-P